FEDERAL COMMUNICATIONS COMMISSION

Deletion of Agenda Items from September 25, 2008 Open Meeting

September 25, 2008.

The following items have been deleted from the list of Agenda items scheduled for consideration at the September 25, 2008, Open Meeting and previously listed in the Commission's Notice of September 18, 2008, 73 FR 55082, September 24, 2008. Items 1 through 2, items 4 through 14, and item 16 have been adopted by the Commission.

Item No. | Bureau | Subject
1 | Media | Title: Nameloc, Inc. (Assignor) and ABC, Inc. (Assignee) Application for Assignment of License of Station KDIS-FM (formerly KYFX(FM)), Little Rock, Arkansas.
|  | Summary: The Commission will consider a Memorandum Opinion and Order concerning Applications for Review and Motions for Stay by Namloc, Inc. and Arkansas Regional Minority Supplier Development Council, et al.
2 | Media | Title: Amendment of Section 73.202(b), Table of Allotments, FM Broadcast Stations (Chillicothe and Ashville, Ohio) (MM Docket No. 99-322; RM-9762).
|  | Summary: The Commission will consider a Memorandum Opinion and Order concerning an Application for Review by Franklin Communications, Inc., North American Broadcasting, Co., and WCLT Radio Incorporated.
4 | Media | Title: Amendment of Section 73.202(b), Table of Allotments, FM Broadcast Stations (Emmetsburg, Sanborn and Sibley, Iowa, and Brandon, South Dakota) (MM Docket No. 01-65; RM-10078, RM-10188, RM-10189).
|  | Summary: The Commission will consider a Memorandum Opinion and Order concerning an Application for Review by Saga Communications of Iowa, LLC.
5 | Media | Title: Amendment of Section 73.202(b), Table of Allotments, FM Broadcast Stations (Vinton, Louisiana, Crystal Beach, Lumberton and Winnie, Texas) (MB Docket No. 02-212; RM-10516, RM-10618).
|  | Summary: The Commission will consider a Memorandum Opinion and Order concerning an Application for Review by Charles Crawford.
6 | Media | Title: Reexamination of the Comparative Standards for Noncommercial Educational Application (MM Docket No. 95-31).
|  | Summary: The Commission will consider a Memorandum Opinion and Third Order on Reconsideration concerning petitions for reconsideration against the Reexamination of the Comparative Standards for Noncommercial Educational Applicants.
7 | Media | Title: Applications for Consent to the Assignment and/or Transfer of Control of Licenses, Adelphia Communications Corporation to Time Warner Cable Inc.; Adelphia Communications Corporation to Comcast Corporation; Comcast Corporation to Time Warner Inc.; Time Warner Inc. to Comcast Corporation (MB Docket No. 05-192).
|  | Summary: The Commission will consider an Order on Reconsideration concerning a Petition for Reconsideration by IBC Worldwide, Ltd.
8 | Media | Title: RB Schools Applications for Construction Permit for New Noncommercial Educational FM Stations and Health Radio, Inc. Application for Construction Permit for a New Noncommercial Educational FM Station on Channel 216 at Knoxville, Tennessee.
|  | Summary: The Commission will consider a Memorandum Opinion and Order concerning Applications for Review by RB Schools and Health Radio, Inc.
9 | Media | Title: Amendment of Section 73.202(b), FM Table of Allotments, FM Broadcast Stations (Caro and Cass City, Michigan) (MM Docket No. 01-33; RM-10060).
|  | Summary: The Commission will consider a Memorandum Opinion and Order concerning an Application for Review by Edward Czelada.
10 | Media | Title: Oral Roberts University and Community Television Education, Inc. Applications for a Construction Permit for a New Noncommercial Educational Television Station on DTV Channel *26, Tulsa, OK.
|  | Summary: The Commission will consider a Memorandum Opinion and Order concerning mutually exclusive permit applications for a construction permit for a new noncommercial educational DTV television station.
11 | Media | Title: Edward A. Schober Application for a Construction Permit for a New FM Translator Station at Manahawkin, New Jersey.
|  | Summary: The Commission will consider a Memorandum Opinion and Order concerning an Application for Review by Greater Philadelphia Radio, Inc.
12 | Media | Title: Eagle Broadcasting Company, Inc. and Eagle II Broadcasting Company, Inc. and Saga Communications of New England, LLC Applications for Assignment of License of WHCU(AM), WYXL(FM), WNYY(AM), and WQNY(FM), Ithaca, New York.
|  | Summary: The Commission will consider a Memorandum Opinion and Order concerning an Application for Review by Finger Lakes Alliance for Independent Media.
13 | Media | Title: Royce International Broadcasting, Co., KM Communications, Inc., James K. Zahn, and Susquehanna Radio Corp. Applications for New AM Broadcast Stations.
|  | Summary: The Commission will consider a Memorandum Opinion and Order concerning an Application for Review by Susquehanna Radio Corp. and a Petition for Reconsideration by James K. Zahn.
14 | Media | Title: An Inquiry into the Commission's Policies and Rules Regarding AM Radio Service Directional Antenna Performance Verification (MM Docket No. 93-177).
|  | Summary: The Commission will consider a Second Report and Order and a Second Further Notice of Proposed Rulemaking concerning proposed changes to rules regarding AM directional antenna field strength measurements.
15 | Media | Title: Amendment of Service and Eligibility Rules for FM Broadcast Translator Stations (MB Docket No. 07-172; RM-11338).
|  | Summary: The Commission will consider a Report and Order concerning proposed changes to service rules for FM translators.
16 | General Counsel | Title: A Freedom of Information Act (FOIA) request for inspection of records by Mary O'Grady and a request for confidential treatment by Fusion Telecommunications International, Inc.
|  | Summary: The Commission will consider an application for review of a ruling by the International Bureau granting a Freedom of Information Act request by Mary O'Grady and denying a request for confidentiality by Fusion Telecommunications International, Inc. regarding certain telecommunications agreements between Fusion and Telecommunications d'Haiti.

Federal Communications Commission.
Marlene H. Dortch,
Secretary.

[FR Doc. E8-22931 Filed 9-25-08; 4:15 pm]

BILLING CODE 6712-01-P